DEPARTMENT OF JUSTICE

Notice of Lodging of Consent Decree Under the Toxic Substances Control Act

Notice is hereby given that on August 21, 2012, a proposed Consent Decree in United States v. INEOS Chlor Americas, Inc., Civil Action No. 1:12-cv-01058, was lodged with the United States District Court for the District of Delaware.

In this action, the United States sought injunctive relief from Defendant INEOS Chlor Americas, Inc., (“INEOS Chlor”) for violations of the Toxic Substances Control Act (“TSCA”), Section 15, 15 U.S.C. 2614. The Complaint alleges that INEOS Chlor manufactured and continues to manufacture multiple “new chemical substances” as defined in TSCA Section 3(9), 15 U.S.C. 2602 (9), while failing to comply with the manufacturing and processing notices required under TSCA Section 5, 15 U.S.C. 2604. The violations alleged in the Complaint occurred and continue to occur at INEOS Chlor's headquarters located in Wilmington, Delaware.

Under the proposed Consent Decree, INEOS Chlor will cease importing chlorinated paraffin products unless and until it submits the requisite premanufacture notices (“PMNs”) and such substances are placed on the TSCA Inventory. The proposed Consent Decree also requires INEOS Chlor to pay a civil penalty of $175,000.

The Department of Justice will receive for a period of thirty (30) days from the date of this publication comments relating to this Consent Decree. Comments should be addressed to the Assistant Attorney General, Environment and Natural Resources Division, and either emailed to pubcomment-ees.enrd@usdoj.gov or mailed to P.O. Box 7611, U.S. Department of Justice, Washington, DC 20044-7611, and should refer to United States v. INEOS Chlor Americas, Inc., D.J. Ref. 90-5-1-1-10159.

During the public comment period, the Consent Decree may also be examined on the following Department of Justice Web site, http://www.usdoj.gov/enrd/Consent_ Decrees.html. A copy of the Consent Decree may also be obtained by mail from the Consent Decree Library, U.S. Department of Justice, P.O. Box 7611, Washington, DC 20044-7611 or by faxing or emailing a request to “Consent Decree Copy” (EESCDCopy.ENRD@usdoj.gov), fax number (202) 514-0097, phone confirmation number (202) 514-5271. If requesting a copy from the Consent Decree Library, please enclose a check in the amount of $ 6.50 (25 cents per page reproduction cost) payable to the U.S. Treasury or, if by email or fax, forward a check in that amount to the Consent Decree Library at the address given above.

Maureen Katz,
Assistant Chief, Environmental Enforcement Section, Environment and Natural Resources Division, United States Department of Justice.

[FR Doc. 2012-21716 Filed 9-4-12; 8:45 am]

BILLING CODE 4410-15-P